DEPARTMENT OF DEFENSE

Department of the Air Force

HQ USAF Scientific Advisory Board Meeting

The Spring General Board Meeting will meet in Ogden, UT on April 24-26, 2001 from 8:00 a.m. to 5:00 p.m.

The purpose of the meeting is to receive briefings for the 2001 Summer Study. The meeting will be closed to the public in accordance with section 552b(c) of title 5, United States Code, specifically subparagraphs (1) and (4) thereof.

For further information, contact the HQ USAF Scientific Advisory Board Secretariat at (703) 697-8404.

Janet A. Long,
Air Force Federal Register Liaison Officer.

[FR Doc. 01-7449 Filed 3-26-01; 8:45 am]

BILLING CODE 5001-05-U